DEPARTMENT OF HEALTH AND HUMAN SERVICES

Centers for Disease Control and Prevention

Disease, Disability, and Injury Prevention and Control Special Emphasis Panel (SEP): Assessing the Accuracy of Self-Report of HIV Testing Behavior, Program Announcement Number (PA) 09-002

Correction: This notice was published in the Federal Register on February 10, 2009, Volume 74, Number 26, Page 6634. The place and time should read as follows:

Time and Date: 12 p.m.-3 p.m., March 20, 2009 (Closed).

Place: Teleconference.

Status: The meeting will be closed to the public in accordance with provisions set forth in Section 552b(c)(4) and (6), Title 5 U.S.C., and the Determination of the Director, Management Analysis and Services Office, CDC, pursuant to Public Law 92-463.

The Director, Management Analysis and Services Office, has been delegated the authority to sign Federal Register notices pertaining to announcements of meetings and other committee management activities, for both CDC and the Agency for Toxic Substances and Disease Registry.

Dated: February 13, 2009.
Elaine L. Baker,
Director, Management Analysis and Services Office, Centers for Disease Control and Prevention.

[FR Doc. E9-4210 Filed 2-26-09; 8:45 am]

BILLING CODE 4163-18-P